DEPARTMENT OF ENERGY

Federal Energy Regulatory Commission

18 CFR Part 388

[Docket No. RM00-8-000; Order No. 640]

Revision of Public Reference Room Procedures for Record Requests

May 17, 2000.

AGENCY: Federal Energy Regulatory Commission.

ACTION: Final rule.

SUMMARY: The Federal Energy Regulatory Commission is updating its regulation at part 388 governing fees for paper copies of records available in its Public Reference Room. Until now, to enable requesters to determine whether they wished to order lengthy Commission documents before having to pay for their entire request, the Commission would provide paper copies of up to ten pages free of charge. Now, however, because Commission documents may be previewed electronically over the Internet and in the Public Reference Room, the Commission is eliminating its existing rule providing for up to ten pages without charge. The Commission is also providing that the schedule of fees for finding and duplicating records from the Public Reference Room will be available on the Commission's Web site.

EFFECTIVE DATE: This Final Rule is effective June 23, 2000.

FOR FURTHER INFORMATION CONTACT:

Katherine Waldbauer (Legal Information) Office of General Counsel, Federal Energy Regulatory Commission, 888 First Street, NE Washington, DC 20426 Telephone: (202) 208-0232

Katherina Quijada-Cusack (Technical Information), Office of the Chief Information Officer, Federal Energy Regulatory Commission, 888 First Street, NE Washington, DC 20426, Telephone: (202) 208-1748

SUPPLEMENTARY INFORMATION:

I. Introduction

The Federal Energy Regulatory Commission (the Commission) is updating its regulation at Part 388 ¹ governing fees for paper copies of records available in its Public Reference Room. The Commission is eliminating its existing rule that, as to documents from the Commission's Records and Management Information System (RIMS) which may be viewed electronically, requesters may obtain requests consisting of ten or fewer pages without charge. The Commission is also providing that the schedule of fees for finding and duplicating records from the Public Reference Room will be available on the Commission's Web site.²

¹ 18 CFR Part 388.

² The fee schedule will be available at www.ferc.fed.us/public/pubref1.htm.

II. Background and Discussion

Section 388.109(a)(4) of the Commission's regulations currently states that “[t]he public may purchase hard copies of certain documents from the Commission's Records Management and Information System (RIMS). The fee is 15 cents per page. There will be no charge for requests consisting of ten or fewer pages.” RIMS is a database containing the indexes and images of documents submitted to and issued by the Commission since November 16, 1981. It consists of (a) an electronic database consisting of the scanned-in images of the majority of documents submitted to and issued by the Commission since November 1995 and (b) the majority of documents from 1981 until November 1995 which are available only on microform, a data storage system which includes microfilm and aperture cards. All RIMS documents designated as “public documents” are available to the general public, and the majority of RIMS public documents are accessible for viewing and printing through the Commission's Web site free of charge. This rule will eliminate the practice of providing, without charge, paper copies of ten or fewer pages from documents that are available electronically from RIMS.

Beginning in July 1994, the Commission began scanning images of selected documents into the RIMS electronic database, gradually phasing in additional documents. Since July, 1994, the Commission has accumulated a sizeable library of imaged documents. As of February 2000, RIMS contained 470,753 documents comprised of 7,945,632 pages. In addition, the Commission recently enhanced RIMS further to include an improved print capability which allows easier printing of large blocks of pages and higher quality output. Until April 1998, the general public could only obtain documents from RIMS by contacting or going to the Public Reference Room. Since that date the RIMS electronic database has been available through the Commission's Web site, and all of the documents scanned into the RIMS electronic database are now available for viewing and printing through that means. Users with computers who are able to access the Internet are able to view images and print images to their personal printers at no cost.

Before the Commission made access to the RIMS electronic database available through the Internet, the documents could not be viewed prior to being printed. The Commission's regulations, therefore, allowed individuals to request up to ten pages of a document to be printed from microform without charge to determine if the document, or a portion thereof, was what was actually needed by the requester. Now, however, in addition to having RIMS available in the Public Reference Room, the majority of documents requested from RIMS—namely, those available on the RIMS electronic database—can be viewed by the public on the Commission's Web site without charge. Images of scanned documents may now be previewed, and users can print scanned documents directly to their own printers. Alternatively, users still may come to the Public Reference Room to view images on publicly-available computers. Given that previewing of documents can now be done electronically, the Commission is eliminating the practice of printing ten or fewer pages for free for documents that are available for preview in the RIMS electronic database.

The elimination of the current procedure allowing requesters to obtain print requests of ten or fewer pages without charge will have a minimal effect on the public's ability to obtain public records from the Commission, since it will affect only requests which under the revised rule would cost at most $1.50 per request. Elimination of this procedure will also prevent requesters using the Public Reference Room from submitting multiple requests at the same time, each seeking portions of a document or documents, solely in order to avoid payment of fees.

Certain documents (from 1981 until approximately November 1995) are available only on microform. Because documents stored on microform cannot be viewed via the Internet, requesters of documents from RIMS that are only available on microform will not be charged for requests consisting of ten or fewer pages.

The fee schedule is available upon request from staff of the Public Reference Room. The Commission will also publish the fee schedule on the Commission's Web site.

III. Regulatory Flexibility Act Statement

The Regulatory Flexibility Act (RFA) ³ requires rulemakings to contain either a description and analysis of the effect that the Final Rule will have on small entities ⁴ or a certification that the rule will not have a significant economic impact on a substantial number of small entities.

³ 5 U.S.C. 601-612.

⁴ 5 U.S.C. 601(3), citing to section 3 of the Small Business Act, 15 U.S.C. 632. Section 3 of the Small Business Act defines a “small-business concern” as a business which is independently owned and operated and which is not dominant in its field of operation.

This Final Rule eliminates a requester's ability to obtain from the Commission documents that can be previewed from RIMS without charge if the request consists of ten or fewer pages, and provides that the Public Reference Room will publish its fee schedule on the Commission's Web site. The majority of requesters of documents who will be affected by this Final Rule, both large and small entities, are already able to view and print documents from RIMS from the Commission's Web site without charge, and those requesters without Internet access are free to use the computers in the Public Reference Room without charge to preview RIMS documents. The Commission will continue not to charge requesters of documents only available from RIMS microform for requests consisting of ten or fewer pages.

Publishing the fee schedule on the Web site makes it more readily available to requesters and is consistent with the current practice of publishing the fee schedule of the contractor who provides photocopying and other services to the public in the Public Reference Room on the Commission's Web site.⁵ These fee schedules are also available upon request from the staff of the Public Reference Room.

⁵ When this rule goes into effect, the Web page will display a fee schedule for services provided by FERC staff at www.ferc.fed.us/public/pubref1.htm. The Web site currently lists the fee schedule for additional services provided by the Commission's on-site photocopying contractor, RVJ International, Inc., including self-service photocopying at 25 cents per page, at www.ferc.fed.us/public/isd/rvj.htm.

The Commission certifies that this rule will not have a significant economic impact on a substantial number of small entities.

IV. Environmental Statement

Commission regulations require that an environmental assessment or an environmental impact statement be prepared for any Commission action that may have a significant adverse effect on the human environment.⁶ No environmental consideration is necessary for the promulgation of a rule that is procedural, ministerial, or related to internal administrative and management actions.⁷ The Final Rule changes are procedural in nature and do not substantially change the effect of the underlying legislation or regulations being amended. Accordingly, no environmental consideration is necessary.

⁶ Order No. 486, 52 FR 47897 (Dec. 17, 1987); FERC Stats. & Regs. [Regulations Preambles 1986-1990]¶ 30,783 (Dec. 10, 1984) (codified at 18 CFR Part 380).

⁷ 18 CFR 380.4(a)(1).

V. Information Collection Statement

Regulations promulgated by the Office of Management and Budget (OMB) require that OMB approve certain information collection requirements imposed by agency rule.⁸ This Final Rule contains no information reporting requirements, and is not subject to these OMB regulations.

⁸ 5 CFR part 1320.

VI. Administrative Findings Statement

The Administrative Procedure Act (APA) ⁹ generally requires agencies to provide notice of proposed rules and opportunity of public comment thereon, but the notice and comment requirement does not apply to “rules of agency organization, procedure, or practice.” ¹⁰ This Final Rule does not substantially alter the right of members of the public to obtain documents. Therefore, this is a rule of agency organization, procedure or practice for which notice and comment is not required.

⁹ 5 U.S.C. 551-706.

¹⁰ 5 U.S.C. 553(b)(A).

VII. Congressional Notification and Effective Date

The provisions of 5 U.S.C. 801 regarding Congressional review of Final Rules do not apply to this Final Rule because the rule concerns agency procedure and practice. The Final Rule will not substantially affect the rights and obligations of non-agency parties.¹¹ Therefore, this Final Rule is effective June 23, 2000.

¹¹ 5 U.S.C. 804(3)(C).

VIII. Document Availability

In addition to publishing the full text of this document in the Federal Register, the Commission provides all interested persons an opportunity to view and/or print the contents of this document via the Internet through FERC's Web site (http://www.ferc.fed.us) and in FERC's Public Reference Room during normal business hours (8:30 a.m. to 5:00 p.m. Eastern time) at 888 First Street, NE., Room 2A, Washington, DC 20426.

From FERC's Home Page on the Internet, this information is available in both the Commission Issuance Posting System (CIPS) and the Records and Information Management System (RIMS).

• CIPS provides access to the texts of formal documents issued by the Commission since November 14, 1994. CIPS can be accessed using the CIPS link or the Energy Information Online icon. The full text of this document will be available on CIPS in ASCII and WordPerfect 8.0 format for viewing, printing, and/or downloading.

• RIMS contains images of documents submitted to and issued by the Commission after November 16, 1981. Documents from November 1995 to present can be viewed and printed from FERC's Home Page using the RIMS link or the Energy Information Online icon. Descriptions of documents back to November 16, 1981, are also available from RIMS-on-the-Web; requests for copies of these and other older documents should be submitted to the Public Reference Room.

User assistance is available for RIMS, CIPS, and the Web site during normal business hours from our Help Line at (202) 208-2222 (E-Mail to web.master@ferc.fed.us) or the Public Reference Room at (202) 208-1371 (E-Mail to public.referenceroom@ferc.fed.us).

During normal business hours, documents can also be viewed and/or printed in FERC's Public Reference Room, where RIMS, CIPS, and the FERC Web site are available. User assistance is also available.

List of Subjects in 18 CFR Part 388

Confidential business information, Freedom of information

By the Commission.
Linwood A. Watson, Jr.,
Acting Secretary.

In consideration of the foregoing, the Commission amends part 388, title 18, of the Code of Federal Regulations as follows:

PART 388—INFORMATION AND REQUESTS

1. The authority citation for part 388 continues to read as follows:

Authority: 5 U.S.C. 301-305, 551, 552 (as amended), 553-557; 42 U.S.C. 7101-7352.

2. In § 388.109, paragraph (a)(4) is revised and paragraph (a)(6) is added as follows:

§ 388.109 Fees for record requests.

(a) * * *

(4)(i) The public may purchase hard copies of documents available in electronic form from the Commission's Records and Information Management System (RIMS) for 15 cents per page.

(ii) The public may purchase hard copies of documents that are available on microform from RIMS for 15 cents per page. There will be no fee for requests for RIMS microform documents consisting of ten or fewer pages.

* * * * *

(6) The fee schedule for Commission documents is available on the Commission's Web site at www.ferc.fed.us.

* * * * *

[FR Doc. 00-13006 Filed 5-23-00; 8:45 am]

BILLING CODE 6717-01-P